DEPARTMENT OF THE INTERIOR

Fish and Wildlife Service

[FWS-R8-ES-2011-N265; FF08E00000-FXES11120800000F2-123-F2]

Draft Environmental Assessment and Proposed Single-Species Habitat Conservation Plan for the Proposed Shiloh IV Wind Plant Project, Solano County, CA

AGENCY: Fish and Wildlife Service, Interior.

ACTION: Notice of availability: draft environmental assessment and proposed habitat conservation plan; request for comment.

SUMMARY: We, the U.S. Fish and Wildlife Service, have prepared a draft environmental assessment (EA) under the National Environmental Policy Act (NEPA) for the Proposed Shiloh IV Wind Plant Project in response to an application from enXco (applicant) for a 36-year incidental take permit for one species under the Endangered Species Act of 1973, as amended (Act). The application addresses the potential for “take” of one federally listed animal, the Central California Distinct Population Segment of the California tiger salamander. The applicant would implement a conservation program to minimize and mitigate the project activities, as described in the applicant's habitat conservation plan (plan). We request data, comments, new information or suggestions from the public, other concerned governmental agencies, the scientific community, Tribes, industry, or any other interested party on the applicant's permit application, plan, and the associated EA.

DATES: To ensure consideration, please send your written comments by March 12, 2012.

ADDRESSES: Please address written comments to Mike Thomas, Conservation Planning Division, Fish and Wildlife Service, Sacramento Fish and Wildlife Office, 2800 Cottage Way, W-2605, Sacramento, CA 95825. Alternatively, you may send comments by facsimile to (916) 414-6713.

FOR FURTHER INFORMATION CONTACT: Mike Thomas, Chief, Conservation Planning Division, or Eric Tattersall, Deputy Assistant Field Supervisor, at the address shown above or at (916) 414-6600 (telephone). If you use a telecommunications device for the deaf, please call the Federal Information Relay Service at (800) 877-8339.

SUPPLEMENTARY INFORMATION: We, the U.S. Fish and Wildlife Service (Service), publish this notice under the National Environmental Policy Act of 1969, as amended (42 U.S.C. 4321 et seq.; NEPA), and its implementing regulations in the Code of Federal Regulations (CFR) at 40 CFR 1506.6, as well as in compliance with section 10(c) of the Endangered Species Act (16 U.S.C. 1531 et seq.; Act). We have prepared this EA to evaluate the impacts of several alternatives related to the potential issuance of an incidental take permit (ITP) to the applicant, as well as impacts of the implementation of the supporting proposed habitat conservation plan (plan).

The applicant proposes to develop a plan as part of their application for an ITP under section 10(a)(1)(B) of the Act. The proposed plan will include measures necessary to minimize and mitigate the impacts, to the maximum extent practicable, of potential proposed taking of a federally listed species to be covered by the plan, and the habitats upon which it depends, resulting from construction and operation of the proposed Shiloh IV Wind Plant Project within the proposed plan area, to include portions of the Montezuma Hills Wind Resource Area in Solano County, California.

Background Information

Section 9 of the Act prohibits taking of fish and wildlife species listed as endangered or threatened under section 4 of the Act. Under the Act, the term “take” means to harass, harm, pursue, hunt, shoot, wound, kill, trap, capture, or collect, or to attempt to engage in any such conduct. The term “harm” is defined in the regulations as significant habitat modification or degradation that results in death or injury of listed species by significantly impairing essential behavioral patterns, including breeding, feeding, or sheltering (50 CFR 17.3). The term “harass” is defined in the regulations as to carry out actions that create the likelihood of injury to listed species to such an extent as to significantly disrupt normal behavioral patterns, which include, but are not limited to, breeding, feeding, or sheltering (50 CFR 17.3).

However, under specified circumstances, the Service may issue permits that allow the take of federally listed species, provided that the take that occurs is incidental to, but not the purpose of, an otherwise lawful activity. Regulations governing permits for endangered and threatened species are at 50 CFR 17.22 and 17.32, respectively.

Section 10(a)(1)(B) of the Act contains provisions for issuing such incidental take permits to non-Federal entities for the take of endangered and threatened species, provided the following criteria are met:

1. The taking will be incidental;

2. The applicants will, to the maximum extent practicable, minimize and mitigate the impact of such taking;

3. The applicants will develop a proposed HCP and ensure that adequate funding for the plan will be provided;

4. The taking will not appreciably reduce the likelihood of the survival and recovery of the species in the wild; and

5. The applicants will carry out any other measures that the Service may require as being necessary or appropriate for the purposes of the HCP.

The applicant seeks incidental take authorization for the following federally listed threatened species—Central California Distinct Population Segment of the California tiger salamander (Ambystoma californiense)—which we will refer to as the covered species in this notice.

The proposed covered activities under this plan include constructing and installing the wind turbines and associated electrical facilities and access roads, expanding the existing enXco operations and maintenance yard by 5,000 square feet, installing a new 230-kilovolt substation (to be built on an existing pad), maintaining the new wind turbines and the associated facilities, and, later, decommissioning the facility and restoring the site. Specifically, proposed covered activities include grading, excavating to support access roads, trenching to install underground electrical lines, installing of erosion-control measures during covered construction and maintenance activities, installing new gravel roads, pouring a cement footing to support each turbine, installing of other infrastructure, gravel placement for road maintenance, vehicle travel, transport of equipment and supplies, and other similar actions necessary to support the construction, maintenance, and operation of the proposed Shiloh IV Wind Energy Project.

Alternatives in the Draft Environmental Assessment

The proposed action presented in the draft EA will be compared to the no-action alternative. The no-action alternative represents estimated future conditions to which the proposed action's estimated future conditions can be compared. Other alternatives considered, including their potential impacts, are also addressed in the draft EA.

No Action Alternative

Under the No Action alternative, we would not issue a permit, and the applicant would not construct the project. The no-action alternative would not achieve the applicant's objectives and would not allow the development of the project in a designated wind resource area.

Reduced Take Alternative

Under the Reduced Take Alternative, wind turbines would be sited farther than 500 feet from aquatic habitats, which would reduce the number of turbines that would be constructed. This alternative would not meet the applicant's objective of a generating capacity of 100 megawatts.

Proposed Alternative

The Shiloh IV Wind Plant Project would be constructed on 3,100 acres encompassing the Plan Area in the Collinsville-Montezuma Hills Wind Resources Area, south of State Route 12 in Solano County, California. The Plan Area is within and surrounded by existing energy-producing facilities and will effectively repower the enXco V project, currently present on the site. Adjacent energy-producing facilities include Shiloh I to the north and west, High Winds to the east, Shiloh II to the north, and Montezuma II to the south and east.

The applicant proposes to develop its wind energy facility that would deliver renewable energy to the Pacific Gas & Electric California Independent System Operator power grid to meet California's Renewable Portfolio Standard goals and help reduce greenhouse gas emissions pursuant to California Assembly Bill 32 (Global Warming Solutions Act) and Solano County's General Plan. Up to 50 wind turbines would be built in the Plan Area. The project would be constructed in a location that supports suitable habitat for the Central California Distinct Population Segment of the California tiger salamander, a species listed as threatened under the Act. The Central California Distinct Population Segment of the California tiger salamander is the only proposed “Covered Species.”

The “Covered Activities” included in the plan include the construction and installation of wind turbines and associated facilities and access roads, maintenance of the wind turbines and associated facilities, and decommissioning of the site. All turbines are proposed to be located in cultivated agricultural lands. The project is expected to result in permanent loss of 25 acres of agricultural land. Temporary construction effects are expected on 130 acres of agricultural land (115 acres during construction and up to 15 acres for maintenance activities) and approximately 2 acres of grassland. All land cover types affected would be restored within 1 year of impact. No direct effects on aquatic breeding habitat would occur.

The applicant proposes to avoid, minimize, and mitigate the effects to the Covered Species associated with the Covered Activities by fully implementing the plan. The following mitigation measures will be implemented for Central CTS as part of the plan: Minimize impact area; avoid injury of the covered species during implementation of Covered Activities; avoid habitat impacts associated with erosion and sedimentation generated by Covered Activities; minimize the risk of project-related toxic spills that could adversely affect the covered species or its habitat; restore all temporarily disturbed covered species' habitat in the Plan Area to pre-project conditions within 1 year of disturbance; ensure implementation of the avoidance and minimization measures; and offset unavoidable permanent habitat impacts on the covered species through the purchase of approximately 37 acres of credits at a Service and California Department of Fish and Game-approved conservation bank, to ensure temporary and permanent effects are mitigated.

Under the proposed action alternative, we would issue an incidental take permit for the applicant's proposed project, which includes the activities described above and in more detail in the plan.

Environmental Review and Next Steps

As described in our EA, we have made the preliminary determination that approval of the proposed plan and issuance of the permit would qualify as FONSI under NEPA (42 U.S.C. 4321 et seq.), as provided by Federal regulations (40 CFR 1500, 5(k), 1507.3(b)(2), 1508.4) and the Department of the Interior Manual (516 DM 2 and 516 DM 8). Our EA articulates the project effects on all potential resources that could be adversely affected, including aesthetics, agricultural resources, air quality, climate change, biological resources, cultural resources, geology, minerals and paleontological resources, hazardous materials, hydrology and water quality, land use and planning, noise, public health hazards, recreation, traffic and transportation, and utilities and public service systems. It also includes an analysis of alternatives, and other required analyses such as unavoidable adverse effects, irreversible and irretrievable commitments of resources, short-term uses versus long-term productivity and cumulative effects, and the environmentally preferable alternative (the proposed project).

Public Comments

We request data, comments, new information, or suggestions from the public, other concerned governmental agencies, the scientific community, Tribes, industry, or any other interested party on this notice. We particularly seek comments on the following:

1. Biological information concerning the species;

2. Relevant data concerning the species;

3. Additional information concerning the range, distribution, population size, and population trends of the species;

4. Current or planned activities in the subject area and their possible impacts on the species;

5. The presence of archeological sites, buildings and structures, historic events, sacred and traditional areas, and other historic preservation concerns, which are required to be considered in project planning by the National Historic Preservation Act; and

6. Identification of any other environmental issues that should be considered with regard to the proposed development and permit action.

You may submit your comments and materials by one of the methods listed in the ADDRESSES section.

We will identify in the FONSI if we need to prepare further NEPA documentation. We will also consider public comments on the draft EA when making the final determination on whether to prepare additional NEPA documents on the proposed action.

Public Availability of Comments

Before including your address, phone number, email address, or other personal identifying information in your comment, you should be aware that your entire comment—including your personal identifying information—may be made publicly available at any time. While you can ask us in your comment to withhold your personal identifying information from public review, we cannot guarantee that we will be able to do so.

Availability of Documents

You may obtain copies of the permit application, plan, and EA from the individuals in FOR FURTHER INFORMATION CONTACT. Copies of these documents are available for public inspection, by appointment, during regular business hours, at the Sacramento Fish and Wildlife Office (see ADDRESSES).

Authority

We provide this notice pursuant to section 10(c) of the Act and the NEPA public-involvement regulations (40 CFR 1500.1(b), 1500.2(d), and 1506.6). We will evaluate the permit application, including the plan and comments we receive, to determine whether the application meets the requirements of section 10(a) of the Act. If the requirements are met, we will issue a permit to the applicant for the incidental take of the Central California Distinct Population Segment of the California tiger salamander from the implementation of the Covered Activities described in the plan. We will make the final permit decision no sooner than 30 days after the date of this notice.

Alexandra Pitts,
Deputy Regional Director, Pacific Southwest Region, U.S. Fish and Wildlife Service, Sacramento, California.

[FR Doc. 2012-288 Filed 1-9-12; 8:45 am]

BILLING CODE 4310-55-P